NATIONAL LABOR RELATIONS BOARD

Sunshine Act Meetings: June 2015

TIME AND DATES: All meetings are held at 2:00 p.m. Tuesday, June 2; Wednesday, June 3; Thursday, June 4; Tuesday, June 9; Wednesday, June 10; Thursday, June 11; Tuesday, June 16; Wednesday, June 17; Thursday, June 18; Tuesday, June 23; Wednesday, June 24; Thursday, June 25; Tuesday, June 30.

PLACE: Board Agenda Room, No. 11820, 1099 14th St. NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

CONTACT PERSON FOR MORE INFORMATION: Henry Breiteneicher, Associate Executive Secretary, (202) 273-2917.

Dated: May 28, 2015.
William B. Cowen,
Solicitor.

[FR Doc. 2015-13429 Filed 5-29-15; 11:15 am]

BILLING CODE 7545-01-P